ENVIRONMENTAL PROTECTION AGENCY

[OECA-2005-0040; FRL-7991-4]

Agency Information Collection Activities; Submission for OMB Review and Approval; Comment Request; NESHAP for Portland Cement (Renewal), ICR Number 1801.04, OMB Number 2060-0416

AGENCY: Environmental Protection Agency (EPA).

ACTION: Notice.

SUMMARY: In compliance with the Paperwork Reduction Act, this document announces that an Information Collection Request (ICR) has been forwarded to the Office of Management and Budget (OMB) for review and approval. This is a request to renew an existing approved collection. This ICR is scheduled to expire on October 31, 2005. Under OMB regulations, the Agency may continue to conduct or sponsor the collection of information while this submission is pending at OMB. This ICR describes the nature of the information collection and its estimated burden and cost.

DATES: Additional comments may be submitted on or before December 1, 2005.

ADDRESSES: Submit your comments, referencing docket ID number OECA-2005-0040, to (1) EPA online using EDOCKET (our preferred method), by e-mail to docket.oeca@epa.gov, or by mail to: Environmental Protection Agency, EPA Docket Center (EPA/DC), Enforcement and Compliance Docket and Information Center (EPA/DC) EPA West, Mail Code 2201T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: Leonard Lazarus, Compliance Assessment and Media Programs Division (CAMPD), Office of Compliance, Mail Code: 2223A, Environmental Protection Agency, 1200 Pennsylvania Avenue, NW., Washington, DC 20460; telephone number: (202) 564-6369; fax number: (202) 564-0050; e-mail address: lazarus.leonard@epa.gov.

SUPPLEMENTARY INFORMATION: EPA has submitted the following ICR to OMB for review and approval according to the procedures prescribed in 5 CFR 1320.12. On May 6, 2005 (70 FR 24020), EPA sought comments on this ICR pursuant to 5 CFR 1320.8(d). EPA received no comments.

EPA has established a public docket for this ICR under Docket ID Number OECA-2005-0040, which is available for public viewing at the Enforcement and Compliance Docket and Information Center in the EPA Docket Center, (EPA/DC) EPA West, Room B102, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket and Information Center Docket is: (202) 566-1752. An electronic version of the public docket is available through EPA Dockets (EDOCKET) at http://www.epa.gov/edocket. Use EDOCKET to submit or to view public comments, to access the index listing of the contents of the public docket, and to access those documents in the public docket that are available electronically. When in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, confidential business information (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to www.epa.gov/edocket.

Title: NESHAP for Portland Cement (Renewal).

Abstract: Respondents are owners or operators of portland cement manufacturing plants. The rule applies to each new, existing or reconstructed kiln, in-line kiln/raw mill and greenfield raw material dryer at these facilities, except for kilns and in-line kiln/raw mills that burn hazardous waste. In addition, the rule applies to each new, existing or reconstructed clinker cooler; raw mill; finish mill; raw material, clinker or finished product storage bin; conveying system transfer point; bagging system and bulk loading and unloading system at facilities that are major sources; and to each existing, reconstructed or new brownfield raw material dryer at facilities that are major sources.

Respondents shall submit notifications (where applicable) and reports of initial and repeat performance test results. Plants must develop and implement a startup, shutdown, and malfunction plan and submit semiannual reports of any event where the plan was not followed. Plants must develop and implement an operations and maintenance plan and conduct and report the results of an annual combustion system inspection. Semiannual reports for periods of operation during which the monitoring parameters are exceeded (or reports certifying that no exceedances have occurred) also are required.

Subpart LLL requires respondents to install (where feasible) continuous opacity monitors and temperature monitoring systems on kilns and in-line kiln raw mills, and total hydrocarbon (THC) continuous emission monitors (CEMs) on new greenfield kilns, in-line kiln/raw mills and raw material dryers. Owners and operators are also subject to a deferred requirement to install particulate matter (PM) CEMS.

General requirements applicable to all National Emission Standards for Hazardous Air Pollutants (NESHAP) require records of applicability determinations; test results; exceedances; periods of startups, shutdowns, or malfunctions; monitoring records; and all other information needed to determine compliance with the applicable standard. Records and reports must be retained for a total of 5 years (2 years at the site; the remaining 3 years of records may be retained off site). The files may be maintained on microfilm, on computer or floppy disks, on magnetic tape disks, or on microfiche. All reports are sent to the delegated state or local authority. In the event that there is no such delegated authority, the reports are sent directly to the EPA regional office. This information is being collected to assure compliance with 40 CFR part 63, subpart LLL as authorized in sections 112 and 114(a) of the Clean Air Act. The required information consists of emissions data and other information that have been determined not to be private.

An agency may not conduct or sponsor, and a person is not required to respond to, a collection of information unless it displays a currently valid OMB Control Number. The OMB Control Numbers for EPA's regulations are listed in 40 CFR part 9 and 48 CFR chapter 15, and are identified on the form and/or instrument, if applicable.

Burden Statement: The annual public reporting and recordkeeping burden for this collection of information is estimated to average 42 hours per response. Burden means the total time, effort, or financial resources expended by persons to generate, maintain, retain, or disclose or provide information to or for a Federal agency. This includes the time needed to review instructions; to develop, acquire, install, and utilize technology and systems for the purposes of collecting, validating, and verifying information, processing and maintaining information, and disclosing and providing information; to adjust the existing ways to comply with any previously applicable instructions and requirements; to train personnel to be able to respond to a collection of information; to search data sources; to complete and review the collection of information; and to transmit or otherwise disclose the information.

Respondents/Affected Entities: Portland cement manufacturing facilities.

Estimated Number of Respondents: 107.

Frequency of Response: Initial, Semiannually, On Occasion, Initially.

Estimated Total Annual Hour Burden: 17,526 hours.

Estimated Total Annual Costs: $2,205,272, which includes $0 annualized capital/startup costs, $791,800 annual O&M costs, and $1,413,472 annual labor costs.

Changes in the Estimates: There is a decrease of 35,655 hours in the total estimated burden currently identified in the OMB Inventory of Approved ICR Burdens. This decrease is due to a correction to the tables, which did not properly account for all reporting requirements incurred by existing facilities.

Dated: October 24, 2005.
Oscar Morales,
Director, Collection Strategies Division.

[FR Doc. 05-21762 Filed 10-31-05; 8:45 am]

BILLING CODE 6560-50-P